DEPARTMENT OF JUSTICE

Notice of Lodging of Proposed Consent Decree Under the Comprehensive Environmental Response, Compensation and Liability Act

On June 9, 2014, the Department of Justice lodged a proposed Consent Decree with the United States District Court for the Western District of Missouri in the lawsuit entitled United States and the State of Missouri v. United States Steel Corporation, Civil Action No. 14-cv 5078.

The Consent Decree settles claims asserted in a Complaint filed against United States Steel Corporation (USS) by the United States, on behalf of DOI in its capacity as trustee for federal Natural Resources and the State of Missouri, on behalf of the Missouri Department of Natural Resources, in its capacity as trustee for state Natural Resources in Missouri, under Section 107(a) of the Comprehensive Environmental Response, Compensation and Liability Act and Section 644.096 RSMo of the Missouri Clean Water Law. The Complaint alleges that USS is liable for natural resource damages at the Waco Designated Area of Oronogo-Duenweg Mining Belt Super Fund Site located in Jasper County Missouri resulting from the releases of hazardous substances at properties owned and operated by predecessors in interest to USS. The Consent Decree requires USS to pay natural resource damages in the amount of $222,462.64 into a fund, to be jointly administered by the United States and State of Missouri, which will be used to replace, restore or acquire the equivalent of the injured and destroyed natural resources for which USS is responsible. USS will also reimburse the governments' past natural damage assessment costs in the amount of $35,432.62 to the United States and $8,375.74 to the State of Missouri.

The publication of this notice opens a period for public comment on the Consent Decree. Comments should be addressed to the Assistant Attorney General, Environment and Natural Resources Division, and should refer to United States and State of Missouri v. United States Steel, D.J. Ref. No. 90-11-2-1081/7. Comments must be submitted no later than thirty (30) days after the publication date of this notice. Comments may be submitted either by email or mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $5.75 (25 cents per page reproduction cost) payable to the United States Treasury.

Susan Akers,
Assistant Section Chief, Environmental Enforcement Section, Environment and Natural Resources Division.

[FR Doc. 2014-13885 Filed 6-13-14; 8:45 am]

BILLING CODE 4410-15-P